SMALL BUSINESS ADMINISTRATION

Military Reservist Economic Injury Disaster Loans Interest Rate for Third Quarter FY 2012

In accordance with the Code of Federal Regulations 13—Business Credit and Assistance § 123.512, the following interest rate is effective for Military Reservist Economic Injury Disaster Loans approved on or after April 20, 2012.

Military Reservist Loan Program—4.000%

Dated: April 23, 2012.
Joseph P. Loddo,
Acting Associate Administrator for Disaster Assistance.

[FR Doc. 2012-10115 Filed 4-25-12; 8:45 am]

BILLING CODE P